DEPARTMENT OF TRANSPORTATION

Office of the Secretary

[Docket No. OST-2006-25103]

Advisory Committee on Synthesis and Assessment Product 4.7: Impacts of Climate Variability and Change on Transportation Systems and Infrastructure—Gulf Coast Study

AGENCY: Office of the Secretary (OST), USDOT.

ACTION: Notice of appointees to the committee, and notice of the first meeting of the committee.

SUMMARY: Pursuant to duties imposed by law upon the Department, including the Federal Advisory Committee Act (5 U.S.C. App. 2) “FACA,” and DOT Order 1120.3B, the Office of the Secretary, Department of Transportation has established an advisory committee to provide technical advice and recommendations to a USDOT/USGS Research Team investigating the potential impacts of climate change on transportation. The committee includes scientists, educators, experts, and representatives of State and local governments engaged in transportation decision-making. This document describes the role of the committee as set forth in the Charter, provides information on the qualifications of the individuals appointed by the Secretary, and provides notice of the initial meeting of the committee.

DATES: The first meeting of the committee will take place on July 18-19, 2006. All meetings are open to the public. The meeting is scheduled to run from 9 a.m. to 6 p.m. on July 18th and 8 a.m. to 5 p.m. on July 19th.

ADDRESSES: The committee meeting will take place at: Houston Marriott North at Greenspoint, 255 N. Sam Houston Pkwy East, Houston, Texas 77060. Phone: (281) 875-4000.

FOR FURTHER INFORMATION CONTACT: Michael Savonis, Air Quality Team Leader, Federal Highway Administration Office of Natural and Human Environment, at 202-366-2080 (Michael.Savonis@dot.gov). His mailing address is at the Department of Transportation, Room 3240 HEPN-10, 400 7th Street, SW., Washington, DC 20590.

Comment Period: The comment period for this notice extends through July 7, 2006.

SUPPLEMENTARY INFORMATION: The DOT Center for Climate Change and Environmental Forecasting (the Center) has identified the need for improved information about climate variability and change in transportation decision making. In consultation with transportation experts, climate scientists and Federal partners, the Center developed this study to investigate the impacts of climate change and variability on transportation through a regional study of the central U.S. Gulf Coast. The study will develop decision-support knowledge and tools to assist transportation decision-makers in incorporating climate-related trend information into transportation system planning, design, engineering, and operational decisions. Implications for all transportation modes—surface, marine, and aviation—will be addressed.

This study is one of 21 Synthesis and Assessment Products of the U.S. Climate Change Science Program (CCSP). The study prospectus has been posted by the CCSP for public review in the Federal Register, and has been modified to incorporate public comments. The prospectus is available at: http://www.climatescience.gov/Library/sap/sap4--7/sap4-7prospectus-final.htm. DOT is assisted by the U.S. Geological Survey (USGS) in this study. DOT and USGS signed a memo of understanding in January 2004 agreeing to cooperate on research that will inform decision-makers and the public about the potential effects of climate variability and change on the Nation's transportation systems. This study is the first project under that agreement.

Members of the public wishing to attend meetings held in Department of Transportation buildings or other Federal facilities will have to enter through designated security checkpoints. The visitor entry point for the Department of Transportation headquarters building is in the southwest corner entrance to the building (i.e., the entrance nearest the corner of 7th and E Streets, SW.). Visitors must be escorted into and out of the building. Because it can take some time for large numbers of visitors to process through security, we request that visitors arrive between 8:30 and 8:45 a.m. to undergo the screening process. DOT personnel will then escort groups of visitors to the meeting room. This group escort process will also be followed for persons entering following the lunch break and for persons leaving the building for lunch and at the end of each day's meeting.

Charter of the Committee

A summary of the Charter of the Advisory Committee on Synthesis and Assessment Product 4.7: Impacts of Climate Variability and Change on Transportation Systems and Infrastructure—Gulf Coast Study is provided below.

The Secretary of Transportation, pursuant to duties imposed by law upon the Department, including the Federal Advisory Committee Act (5 U.S.C. App. 2) “FACA”, and DOT Order 1120.3B, hereby establishes the U.S. Department of Transportation's (DOT) Advisory Committee on Synthesis and Assessment Product 4.7 (S&A 4.7): Impacts of Climate Variability and Change on Transportation Systems and Infrastructure—Gulf Coast Study, Phase I.

The committee will provide technical advice and recommendations to the DOT in order to develop S&A Product 4.7 for the Climate Change Science Program (CCSP). The committee will provide balanced, consensual advice on the Study design, research methodology, data sources and quality, and Study findings. The committee will function as an advisory body and will comply with the requirements of FACA in carrying out its duties.

Members of the Committee

The members of the committee and a summary of their qualifications are provided below.

VICKI ARROYO, J.D., Director of Policy Analysis for the Pew Center on Global Climate Change

PHILIP B. BEDIENT, Ph.D., Professor, Department of Civil and Environmental Engineering at Rice University

LEIGH B. BOSKE, Ph.D., Associate Dean and Professor of Economics at the Lyndon B. Johnson School of Public Affairs, University of Texas at Austin

ALAN CLARK, Director for Houston-Galveston Area Council Metropolitan Planning Organization

FRED DENNIN, Regional Administrator of the Federal Railroad Administration (FRA), Region 3

PAUL FISCHBECK, Ph.D., Professor, Department of Engineering and Public Policy and the Department of Social and Decision Sciences, Carnegie Mellon University

ANTHONY JANETOS, Ph.D., Vice President, H. John Heinz III Center for Science, Economics and the Environment

THOMAS KARL, Ph.D., Director of the National Climatic Data Center, NOAA

ROBERT LEMPERT, Ph.D., Senior Physical Scientist, the RAND Corporation

GILBERT MITCHELL, Division Chief, National Geodetic Survey

CHRIS OYNES, J.D., Regional Director for the Gulf of Mexico OCS Region of Minerals Management Service

HAROLD R. “SKIP” PAUL, P.E., Associate Director of Research at the Louisiana Transportation Research Center, Office of Highways

TOM PODANY Acting Deputy District Engineer for Programs and Project Management and Chief of Planning, Programs and Project Management Division

BURR STEWART Strategic Planning Manager, Port of Seattle

ELAINE WILKINSON, Executive Director, Gulf Regional Planning Commission

JOHN ZAMURS, Ph.D., Air Quality Section Head, Environmental Analysis Bureau, New York State Department of Transportation

Meeting Agenda

This meeting and any future meetings of the committee are open to the public (unless portions of the meeting are held in closed session, as provided under FACA), and time will be provided in each meeting's schedule for comments by members of the public. Attendance will necessarily be limited by the size of the meeting room. Members of the public wishing to present written materials to the committee may do so, and should make enough copies for the facilitator and all members of the committee.

The agenda topics of the meeting of the committee will include, but not necessarily be limited to, discussion of the following issues:

1. Review of draft findings of the USGS research team on climate variability and change in the study region;

2. Review of technical memos addressing the potential effects of climate variability and change on transportation planning and operations in the study region, including implications for:

—Highways and transit,

—Rail,

—Ports and waterways,

—Aviation,

—Pipelines,

—Emergency management,

—Long range planning and investment; and

3. Next steps for completion of the study.

The committee may alter its schedule and the agenda items. The agenda presented in this notice is necessarily very general since the direction and nature of the advisory committee discussions will shape the meeting. The Department will issue additional notices, as needed, with respect to future meeting schedules and agenda topics.

Issued this 16th day of June, 2006, at Washington DC.
Tyler Duvall,
Assistant Secretary for Policy, U.S. Department of Transportation.

[FR Doc. E6-9861 Filed 6-21-06; 8:45 am]

BILLING CODE 4910-9X-P